DEPARTMENT OF DEFENSE

Office of the Secretary

[Docket ID DoD-2022-OS-0056]

Submission for OMB Review; Comment Request

AGENCY: Office of the Under Secretary of Defense for Personnel and Readiness (OUSD(P&R)), Department of Defense (DoD).

ACTION: Emergency 5-day information collection notice.

SUMMARY: Consistent with the Paperwork Reduction Act of 1995 and its implementing regulations, this document provides notice that DoD is submitting an Information Collection Request to the Office of Management and Budget (OMB) to satisfy the requirements in a section of the FY 2022 National Defense Authorization Act (NDAA), which requires the Secretary of Defense to conduct a study to identify initial entry points through which military family members may seek information or support relating to domestic abuse or child abuse and neglect. DoD requests emergency processing and OMB authorization to collect the information after publication of this notice for a period of six months.

DATES: Comments must be received by May 25, 2022.

ADDRESSES: The Department has requested emergency processing from OMB for this information collection request by 5 days after publication of this notice. Interested parties can access the supporting materials and collection instrument as well as submit comments and recommendations to OMB at www.reginfo.gov/public/do/PRAMain. Find this particular information collection by selecting “Currently under 5-day Review—Open for Public Comments” or by using the search function. Comments submitted in response to this notice will be summarized and included in the request for OMB approval of this information collection. They will also become a matter of public record.

FOR FURTHER INFORMATION CONTACT: Angela Duncan, 571-372-7574, or whs.mc-alex.esd.mbx.dd-dod-information-collections@mail.mil.

SUPPLEMENTARY INFORMATION: Information collection is required to satisfy the requirements in Section 549 of the Fiscal Year (FY) 2022 National Defense Authorization Act (NDAA), which requires the Secretary of Defense to conduct a study to identify initial entry points through which military family members may seek information or support relating to domestic abuse or child abuse and neglect. The study is an environmental scan and is not intended to be an exhaustive investigation. Military Community Advocacy, Military Community and Family Policy, has authorized Deloitte Consulting to collect information in response to this congressionally mandated task as stipulated in Technical Direction Document 0008, under the Common Services Effort core contract (Contract Number HDQMWR-20-F-0035). The information collection will contribute to DoD and the United States Congress' objective and efforts to improve the prevention of and response to family and interpersonal violence and maladaptive behavior. The end result will be an itemized list of existing Armed Forces or DoD initial entry points through which military family members may seek information or support relating to domestic abuse and child abuse and neglect and the identification of other existing or potential routes through which such family members may seek information or support. The Secretary of Defense will provide these results to the Committees on Armed Services of the Senate and the House of Representatives not later than one year after the date of enactment of the FY 2022 NDAA.

Title; Associated Form; and OMB Number: Military Community and Family Policy Family Advocacy Program Initial Entry Point Environmental Scan; OMB Control Number 0704-IEPS.

Type of Request: Emergency.

Number of Respondents: 180.

Responses per Respondent: 1.

Annual Responses: 180.

Average Burden per Response: 7.5 minutes.

Annual Burden Hours: 22.5 hours.

Affected Public: Individuals or households.

Frequency: Once.

Respondent's Obligation: Voluntary.

Request for Comments

Comments are invited on: (1) Whether the proposed collection of information is necessary for the proper performance of the functions of DoD, including whether the information collected has practical utility; (2) the accuracy of DoD's estimate of the burden (including hours and cost) of the proposed collection of information; (3) ways to enhance the quality, utility, and clarity of the information to be collected; and (4) ways to minimize the burden of the collection of information on respondents, including automated collection techniques or the use of other forms of information technology.

Dated: May 17, 2022.
Aaron T. Siegel,
Alternate OSD Federal Register Liaison Officer, Department of Defense.

[FR Doc. 2022-10916 Filed 5-19-22; 8:45 am]

BILLING CODE 5001-06-P